Title 3—

The President

Proclamation 10845 of October 25, 2024

National First Responders Day, 2024

By the President of the United States of America

A Proclamation

On National First Responders Day, we recognize and celebrate all the brave first responders across our country who risk their lives to keep the rest of us safe.

Our first responders represent the best of who we are as a people. They are the police officers and sheriff's deputies who answer our calls, ready to help, no matter the situation. They are the firefighters running toward the flames to protect our communities. They are emergency medical technicians, paramedics, 911 dispatchers, 988 crisis responders, and all the medical professionals providing emergency care, who sacrifice so much to be there for us when a crisis hits. Our first responders are everyday heroes, and we are so grateful for their service. In the wake of Hurricane Milton and Hurricane Helene, we witnessed the courage and bravery of our first responders firsthand and just how much they sacrifice to keep the rest of us safe, including the brave search and rescue teams who have saved thousands of lives in the aftermath of the storms.

My Administration is committed to supporting our first responders and ensuring they have access to the resources they need to thrive. During the COVID-19 pandemic, I signed the American Rescue Plan to keep first responders on the job, which provided billions of dollars to help cities, States, and Tribal Nations retain and hire more law enforcement officers, firefighters, and emergency health providers and pay their bonuses and overtime. I also signed the Protecting America's First Responders Act, which expanded death, disability, and education benefits for first responders killed or permanently disabled in the line of duty and their families. My Administration is also making sure that firefighters are getting the health care they need by launching the National Firefighter Registry for Cancer—our Nation's largest effort to reduce the risk of cancer among firefighters—providing access to job-related disability benefits for firefighters diagnosed with certain kinds of cancer or lung disease, and protecting firefighters from toxic PFAS chemicals in their gear and equipment.

My Administration is working to make our communities safer and more resilient while keeping our first responders safe. I signed the most significant gun safety law in nearly 30 years while also strengthening background checks for gun purchasers and cracking down on illegal gun sales and ghost guns. And my Investing in America agenda included funding to make our communities more resilient to natural disasters.

This month, Vice President Harris and I visited North Carolina and Florida in the aftermath of Hurricane Helene and Hurricane Milton. Lives were lost. Entire neighborhoods had been turned into debris. Portions of entire cities were underwater. But our first responders stepped up in this time of need, picking up the pieces and acting as a source of strength for everyone else. Today, may we honor the critical role first responders play in our lives—showing up in our darkest times to provide hope, light, and care.

NOW, THEREFORE, I, JOSEPH R. BIDEN JR., President of the United States of America, by virtue of the authority vested in me by the Constitution and the laws of the United States, do hereby proclaim October 28, 2024, as National First Responders Day. I call upon all the people of the United States to observe this day with appropriate programs, ceremonies, and activities to honor our brave first responders and to pay tribute to those who have lost their lives in the line of duty.

IN WITNESS WHEREOF, I have hereunto set my hand this twenty-fifth day of October, in the year of our Lord two thousand twenty-four, and of the Independence of the United States of America the two hundred and forty-ninth.

[FR Doc. 2024-25590

Filed 10-31-24; 8:45 am]

Billing code 3395-F4-P